DEPARTMENT OF TRANSPORTATION

Federal Aviation Administration

14 CFR Part 39

[Docket No. 2002-NM-101-AD]

RIN 2120-AA64

Airworthiness Directives; Boeing Model 737-600, -700, 700C, -800, and -900 Series Airplanes

AGENCY: Federal Aviation Administration, DOT.

ACTION: Notice of proposed rulemaking (NPRM).

SUMMARY: This document proposes the adoption of a new airworthiness directive (AD) that is applicable to certain Boeing Model 737-600, -700, 700C, -800, and -900 series airplanes. This proposal would require replacement of the proximity switch electronics unit with a new, improved unit. This action is necessary to prevent a malfunction of the aural warning for the landing gear, leading the crew to open the circuit breaker for the aural warning horn which stops the operation of other aural warnings of malfunctions in other systems and, thus, could jeopardize a safe flight and landing. This action is intended to address the identified unsafe condition.

DATES: Comments must be received by February 17, 2004.

ADDRESSES: Submit comments in triplicate to the Federal Aviation Administration (FAA), Transport Airplane Directorate, ANM-114, Attention: Rules Docket No. 2002-NM-101-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-101-AD” in the subject line and need not be submitted in triplicate. Comments sent via the Internet as attached electronic files must be formatted in Microsoft Word 97 or 2000 or ASCII text.

The service information referenced in the proposed rule may be obtained from Boeing Commercial Airplane Group, P.O. Box 3707, Seattle, Washington 98124-2207. This information may be examined at the FAA, Transport Airplane Directorate, 1601 Lind Avenue SW., Renton, Washington.

FOR FURTHER INFORMATION CONTACT: Binh V. Tran, Aerospace Engineer, Systems and Equipment Branch, ANM-130S, FAA, Seattle Aircraft Certification Office, 1601 Lind Avenue, SW., Renton, Washington 98055-4056; telephone (425) 917-6485; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-101-AD.” The postcard will be date stamped and returned to the commenter.

Availability of NPRMs

Any person may obtain a copy of this NPRM by submitting a request to the FAA, Transport Airplane Directorate, ANM-114, Attention: Rules Docket No. 2002-NM-101-AD, 1601 Lind Avenue, SW., Renton, Washington 98055-4056.

Discussion

The FAA has received reports from at least seven operators of Boeing Model 737 airplanes of a malfunction of the aural warning horn for the landing gear. The aural warning operated during climb or cruise, after retraction of the landing gear and flaps. The malfunction can cause the flight crew's focus to change from operation of the airplane to identification of the cause of the malfunction. Malfunction of the aural warning for the landing gear, if not corrected, could lead the crew to open the circuit breaker for the aural warning horn which stops the operation of other aural warnings of malfunctions in other systems and, thus, could jeopardize a safe flight and landing.

Explanation of Relevant Service Information

The FAA has reviewed and approved Boeing Alert Service Bulletin 737-32A1343, dated July 26, 2001, which describes procedures for replacement of the proximity switch electronics unit (PSEU) with a new unit which will help prevent a malfunction of the aural warning horn for the landing gear. The Alert Service Bulletin indicates that Boeing Component Service Bulletins 285A1600-32-01 and 285A1600-32-02 are to be accomplished concurrently. Accomplishment of the actions specified in the Alert Service Bulletin is intended to adequately address the identified unsafe condition.

Explanation of Requirements of Proposed Rule

Since an unsafe condition has been identified that is likely to exist or develop on other products of this same type design, the proposed AD would require accomplishment of the actions specified in the service bulletin described previously. The actions would be required to be accomplished in accordance with the service bulletin described previously, except as discussed below.

Differences

Although the service bulletin recommends accomplishing the replacement “as soon as manpower and material are available,” the FAA has determined that such an imprecise compliance time would not address the identified unsafe condition in a timely manner. In developing an appropriate compliance time for this AD, the FAA considered not only the manufacturer's recommendation, but the degree of urgency associated with addressing the subject unsafe condition, the average utilization of the affected fleet, and the time necessary to perform the modifications. In light of all of these factors, the FAA finds a compliance time of 18 months for completing the required actions to be warranted, in that it represents an appropriate interval of time for affected airplanes to continue to operate without compromising safety.

The FAA is not proposing in this NPRM that Boeing Component Service Bulletins 285A1600-32-01 and 285A1600-32-02 be accomplished concurrently with Boeing Alert Service Bulletin 737-32A1343, dated July 26, 2001.

Cost Impact

There are approximately 890 airplanes of the affected design in the worldwide fleet. The FAA estimates that 283 airplanes of U.S. registry would be affected by this proposed AD, that it would take approximately 4 work hours per airplane to accomplish the proposed actions, and that the average labor rate is $65 per work hour. Required parts would cost approximately $40 per airplane. Based on these figures, the cost impact of the proposed AD on U.S. operators is estimated to be $84,900, or $300 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

The manufacturer may cover the cost of replacement parts associated with this proposed AD, subject to warranty conditions. Manufacturer warranty remedies may also be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2002-NM-101AD.

Applicability: Model 737-600, -700, 700C, -800, and “900 series airplanes, as listed in Boeing Alert Service Bulletin 737-32A1343, dated July 26, 2001; certificated in any category.

Compliance: Required as indicated, unless accomplished previously.

To prevent a malfunction of the aural warning for the landing gear, leading the crew to open the circuit breaker for the aural warning horn which stops the operation of other aural warnings of malfunctions in other systems and, thus, could jeopardize a safe flight and landing, accomplish the following:

Replacement

(a) Within 18 months after the effective date of this AD: Remove the Proximity Switch Electronics Unit (PSEU) having part number 285A1600-2 or 285A1600-3 and replace it with a PSEU having part number 285A1600-4, per the Accomplishment Instructions of Boeing Alert Service Bulletin 737-32A1343, dated July 26, 2001.

Parts Installation

(b) As of the effective date of this AD, no person shall install a PSEU having part number 285A1600-2 or 285A1600-3 on any airplane.

Alternative Methods of Compliance

(c) In accordance with 14 CFR 39.19, the Manager, Seattle Aircraft Certification Office, FAA, is authorized to approve alternative methods of compliance for this AD.

Issued in Renton, Washington, on December 19, 2003.
Ali Bahrami,
Acting Manager, Transport Airplane Directorate, Aircraft Certification Service.

[FR Doc. 03-32134 Filed 12-30-03; 8:45 am]

BILLING CODE 4910-13-P